DEPARTMENT OF AGRICULTURE

Natural Resources Conservation Service

Notice of Intent: To Request an Extension and Revision of a Currently Approved Information Collection

AGENCY: Natural Resources Conservation Service (NRCS), USDA.

ACTION: Correction and request for comments.

SUMMARY: NRCS published in the Federal Register notice of October 22, 2008 (73 FR 62949), a document stating “Notice to Reinstate a Previously Approved Information Collection.” This notice corrects the previously published document. In accordance with the Paperwork Reduction Act of 1995 (44 U.S.C. Chapter 35), this notice announces the intention of NRCS to request an extension for, and a revision to, the currently approved information collection, Volunteer Program—Earth Team. The collected information will help NRCS match the skills of individuals who apply for volunteer work that will further the Agency's mission. Information will be collected from potential volunteers who are at least 14 years of age.

DATES: Comments on this notice must be received within 60 days after publication in the Federal Register to be assured of consideration.

Additional Information or Comments: Contact Michele Eginoire, National Volunteer Coordinator, at (515) 289-0325, extension 102. Submit comments to Michele by fax at (515) 289-4561, or by e-mail: michele.eginoire@ia.usda.gov.

SUPPLEMENTARY INFORMATION: Collection of this information is necessary to match volunteer assignments to Agency mission as required by Federal Personnel Manual Supplement 296-33, Subchapter 3. Agencies are authorized to recruit, train, and accept, with regard to Civil Service classification laws, rules or regulations, the services of individuals to serve without compensation. Volunteers may assist in any Agency program/project and may perform any activities that Agency employees are allowed. Volunteers must be at least 14 years of age. Persons interested in volunteering will have to write, call, e-mail, or visit an NRCS office, or visit the NRCS Web site at: http://www.nrcs.usda.gov/feature/volunteers/ to complete and submit the forms.

Title: Volunteer Program—Earth Team.

OMB Number: 0578-0024.

Expiration Date of Approval: May 31, 2009.

Type of Request: Notice to Request for Extension and Revision of Currently Approved Information Collection.

Abstract: NRCS-PER-001, Volunteer Application and NRCS-PER-003, Agreement for Sponsored Voluntary Services, are discontinued. The information collected on these forms has been added to the Forest Service collection packet, the Office of Management and Budget (OMB) Control Number 0596-0080.

Form NRCS-PER-002, Volunteer Interest and Placement Summary, is an optional form and assists the volunteer's supervisor in placing the volunteer in a position which is beneficial to the volunteer and the Agency. The form is placed in a volunteer “case file” and will be destroyed 3 years after the volunteer has completed service. In the event that the volunteer is injured, the “case file” will be transferred to an Official Personnel Folder (OPF).

Estimate of Burden: Public reporting burden for this collection of information is estimated to average 3 minutes per response.

Respondents: Retirees, students, teachers, persons with disabilities, or senior citizens.

Estimated Number of Respondents: 500.

Estimated Number of Responses per Respondent: 1.

Estimated Total Annual Burden on Respondents: 25 hours.

Form NRCS-PER-004, Time Sheet, is also an optional form and provides the volunteer or their supervisor a simplified method for tracking the volunteer's time. The form is placed in a volunteer “case file” and will be destroyed 3 years after the volunteer has completed service. In the event that the volunteer is injured, the “case file” will be transferred to an OPF.

Estimate of Burden: Public reporting burden for this collection of information is estimated to average 1 minute per response.

Respondents: Retirees, students, teachers, persons with disabilities, or senior citizens.

Estimated Number of Respondents: 20,480.

Estimated Number of Responses per Respondent: 2.

Estimated Total Annual Burden on Respondents: 683 hours.

Comments are invited on: (1) Whether the proposed collection of information is necessary for the proper performance of the functions of the Agency, including whether the information will have practical utility; (2) the accuracy of the Agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Michele Eginoire, National Earth Team Office, NRCS, 5140 Park Avenue, Suite C, Des Moines, Iowa 50321; telephone: (515) 289-0325, extension 102; fax: (515) 289-4561; e-mail: michele.eginoire@ia.usda.gov. All comments received will be available for public inspection during regular business hours at the same address. All responses to this notice will be summarized and included in the request for OMB approval. All comments also will become a matter of public record.

Signed in Washington, DC on December 12, 2008.
Arlen L. Lancaster,
Chief.

[FR Doc. E8-31071 Filed 12-30-08; 8:45 am]

BILLING CODE 3410-16-P